DEPARTMENT OF ENERGY

Federal Energy Regulatory Commission

Combined Notice of Filings #2

Take notice that the Commission received the following electric corporate filings:

Docket Numbers: EC19-42-000.

Applicants: Electric Energy, Inc., GridLiance Heartland LLC.

Description: Joint Application for Authorization Under Section 203 of the Federal Power Act, et al. of Electric Energy, Inc., et al.

Filed Date: 12/26/18.

Accession Number: 20181226-5105.

Comments Due: 5 p.m. ET 1/16/19.

Take notice that the Commission received the following electric rate filings:

Docket Numbers: ER18-2498-001.

Applicants: California Independent System Operator Corporation.

Description: Tariff Amendment: 2018-12-21 2018 Interconnection Process Enhancements Deficiency Letter Response to be effective 11/27/2018.

Filed Date: 12/21/18.

Accession Number: 20181221-5280.

Comments Due: 5 p.m. ET 1/11/19.

Docket Numbers: ER19-324-001.

Applicants: Central Maine Power Company.

Description: Tariff Amendment: Bilateral, Cost-Based TSAs Incorporating First Amendments (Eversource) to be effective 1/9/2019.

Filed Date: 12/26/18.

Accession Number: 20181226-5151.

Comments Due: 5 p.m. ET 1/16/19.

Docket Numbers: ER19-325-001.

Applicants: Central Maine Power Company.

Description: Tariff Amendment: Bilateral, Cost-Based TSAs Incorporating First Amendments (NG) to be effective 1/9/2019.

Filed Date: 12/26/18.

Accession Number: 20181226-5154.

Comments Due: 5 p.m. ET 1/16/19.

Docket Numbers: ER19-326-001.

Applicants: Central Maine Power Company.

Description: Tariff Amendment: Bilateral, Cost-Based TSAs Incorporating First Amendments (Unitil) to be effective 1/9/2019.

Filed Date: 12/26/18.

Accession Number: 20181226-5156.

Comments Due: 5 p.m. ET 1/16/19.

Docket Numbers: ER19-682-000.

Applicants: Sempra Generation, LLC.

Description: Tariff Cancellation: Sempra Generation, LLC Notice of Cancellation of Market Based Rate Tariff to be effective 12/27/2018.

Filed Date: 12/26/18.

Accession Number: 20181226-5000.

Comments Due: 5 p.m. ET 1/16/19.

Docket Numbers: ER19-683-000.

Applicants: PacifiCorp.

Description: Tariff Cancellation: Termination of International Paper CA ? Kraft Sub to be effective 2/25/2019.

Filed Date: 12/26/18.

Accession Number: 20181226-5003.

Comments Due: 5 p.m. ET 1/16/19.

Docket Numbers: ER19-684-000.

Applicants: Idaho Power Company.

Description: § 205(d) Rate Filing: Revisions to SAs 305, 306, and 334—NITSAs (PF, OTEC, and USBR) with BPA to be effective 3/1/2019.

Filed Date: 12/26/18.

Accession Number: 20181226-5004.

Comments Due: 5 p.m. ET 1/16/19.

Docket Numbers: ER19-685-000.

Applicants: Telocaset Wind Power Partners, LLC.

Description: § 205(d) Rate Filing: Notice of Change in Category Seller Status in the NW Region & Revised MBR Tariff to be effective 12/27/2018.

Filed Date: 12/26/18.

Accession Number: 20181226-5022.

Comments Due: 5 p.m. ET 1/16/19.

Docket Numbers: ER19-686-000.

Applicants: Alabama Power Company, Georgia Power Company, Gulf Power Company, Mississippi Power Company.

Description: Notice of Cancellation of Southern Company Services, Inc., as agent for Alabama Power Company, et al. of Umbrella Transmission Service Agreements.

Filed Date: 12/21/18.

Accession Number: 20181221-5448.

Comments Due: 5 p.m. ET 1/11/19.

Docket Numbers: ER19-687-000.

Applicants: Public Service Company of New Mexico.

Description: § 205(d) Rate Filing: Modifications to NITSA/NOA Between PNM and NTUA to be effective 1/1/2019.

Filed Date: 12/26/18.

Accession Number: 20181226-5123.

Comments Due: 5 p.m. ET 1/16/19.

Take notice that the Commission received the following electric securities filings:

Docket Numbers: ES19-7-000.

Applicants: International Transmission Company.

Description: Application under Section 204 of the Federal Power Act for Authorization to Issue Securities of International Transmission Company.

Filed Date: 12/26/18.

Accession Number: 20181226-5136.

Comments Due: 5 p.m. ET 1/16/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 26, 2018.
Nathaniel J. Davis, Sr.,
Deputy Secretary.

[FR Doc. 2018-28481 Filed 1-7-19; 8:45 am]

BILLING CODE 6717-01-P